DEPARTMENT OF THE INTERIOR

Notice of Intent To Prepare a General Management Plan and Environmental Impact Statement for Gulf Islands National Seashore (FL and MS)

AGENCY: National Park Service.

ACTION: Notice.

SUMMARY: This notice is being published in accordance with 40 CFR 1506.6. Pursuant to section 102(2)(c) of the National Environmental Policy Act of 1969, the National Park Service announces the preparation of an Environmental Impact Statement for the General Management Plan for Gulf Islands National Seashore. The statement will assess potential environmental impacts associated with various types and levels of visitor use and resources management within the National Seashore. This General Management Plan/Environmental Impact Statement is being prepared to the requirements of the National Parks and Recreation Act of 1978, Public Law 95-625, and in accord with Director's Order Number 2, the planning directive for National Park Service units.

The National Park Service will conduct public scoping meetings in the local area to receive input from interested parties on issues, concerns, and suggestions pertinent to the managaement of Gulf Islands National Seashore. Representatives of the National Park Service will be available to discuss issues, resource concerns, and the planning process at each of the public meetings. Suggestions and ideas for managing the cultural and natural resources and visitor experiences at the park are encouraged.

Anonymous comments will not be considered. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment. Please note that due to public disclose requirements, the National Park Service, if requeted, may have to make the names and addresses of those who submit written comments public.

DATES: Locations, dates, and times of public scopping meetings will be published in local newspapers and may also be obtained by contacting the park Superintendent. This information will also be published on the General Management Plan Web site (http://www.nps.gov/guis) for Gulf Islands National Seashore.

ADDRESSES: Scoping suggestions should be submitted to the following address to ensure adequate consideration by the Service: Superintendent, Guld Islands National Seashore, 1801 Gulf Breeze Parkway, Gulf Breeze, Florida, 32563.

FOR FURTHER INFORMATION CONTACT: Superintendent, Gulf Islands National Seashore, 1801 Gulf Breeze Parkway, Gulf Breeze, Florida, 32563, Telephone: (850) 934-2604, E-mail: Guis_Superintendent@nps.gov.

SUPPLEMENTARY INFORMATION: Gulf Islands National Seashore is located on barrier islands, keys, and mainland peninsulas in the Pensacola, Florida area and on a series of Gulf Coast barrier islands between Pascagoula and Gulfport, Mississippi, Gulf Islands National Seashore was authorized by Congress in 1971, to provide preservation of 150 miles of coastline, barrier islands,a nd historic fortifications. The last General Management Plan was completed in 1978 and in the ensuing years must has changed. A revised General Management Plan and Environmental Impact Statement would provide the National Seashore with better guidance and direction in regard to management of natural and cultural resources and providing a quality visitor experience.

The plan will provide direction to correct existing management deficiencies through the establishment of management prescriptions, carrying capacities and appropriate types and levels of development and recreational use for all areas of the park. Resource protection, visitor experiences and community relationships will be improved through completion and implementation of the General Management Plan.

Public documents associated with the planning effort, including all newsletters, will be posted on the internet through the Park's Web site at http://www.nps.gov/guis.

The Draft and Final General Manageament Plan and Environmental Impact Statement will be made available to all known interested parties and appropriate agencies. Full public participation by federal, state, and local agencies as well as other concerned organizations and private citizens is invited throughout the preparation process of this document.

The responsible official for this Environmental Impact Statement is Patricia A. Hooks, Acting Regional Director, Southeast Region, National Park Service, 100 Alabama Street SW., 1924 Building, Atlanta, Georgia 30303.

Dated: November 7, 2003.
Patricia A. Hooks,
Acting Regional Director, Southeast Region.

[FR Doc. 03-30561 Filed 12-9-03; 8:45 am]

BILLING CODE 4310-66-M